DEPARTMENT OF TRANSPORTATION

Federal Transit Administration

Safety Advisory 21-1; Fleet-Wide Inspection of Wheel Gauging on Rail Rolling Stock

AGENCY: Federal Transit Administration (FTA), Department of Transportation (DOT).

ACTION: Notice of Safety Advisory.

SUMMARY: As a result of the derailment of a Washington Metropolitan Area Transit Authority Metrorail train on October 12, 2021, FTA has issued Safety Advisory 21-1 to direct State Safety Oversight Agencies (SSOAs) to report information to FTA regarding out-of-tolerance wheel gauges on all rail transit rolling stock in revenue service. The Safety Advisory also advises SSOAs to require fleet-wide inspections of wheel gauges at rail fixed guideway public transportation systems (RTAs) in their jurisdiction. A copy of Safety Advisory 21-1 can be found on the FTA website at https://www.transit.dot.gov/regulations-and-guidance/safety/fta-safety-advisories.

DATES: FTA is requesting SSOA program managers to submit data on the rail transit fleets in revenue service at each RTA in its jurisdiction by December 1, 2021 and to report on the results of wheel gauge inspections conducted by each RTA in its jurisdiction by January 3, 2022.

FOR FURTHER INFORMATION CONTACT: Gail Lyssy, Acting Associate Administrator for Transit Safety and Oversight and Chief Safety Officer, FTA, 1200 New Jersey Avenue SE, Washington, DC 20590, telephone (202) 366-1783 or gail.lyssy@dot.gov.

SUPPLEMENTARY INFORMATION:

Background

On October 12, 2021, at about 4:50 p.m. local time, outbound Washington Metropolitan Area Transit Authority (WMATA) Metrorail train 407 derailed between the Rosslyn and Arlington Cemetery stations. The train was traveling southbound on track No. 2 of WMATA's Blue Line toward Franconia-Springfield with 187 passengers onboard. The National Transportation Safety Board is investigating this safety event, focusing on the pressed wheel/axle interface and widening wheel gauge on wheels and axles.

In accordance with 49 CFR part 674, SSOAs are responsible for overseeing the safety of the rail fixed guideway public transportation systems (RTAs) within their State. Each SSOA has investigative and enforcement authority with respect to the safety of all RTAs within their State (§ 674.13(a)(5)).

Action Required

Within 30 days of November 1, 2021, the SSOA must submit the following information to FTA, for the rail transit fleet in revenue service at each RTA in its jurisdiction:

• Total fleet size, by mode;

• Wheel gauge inspection protocols (specifically, the routine periodicity of inspections), by mode; and

• The number of vehicles that failed wheel gauge tolerance levels, based on the RTA's internal and approved procedures, from October 1, 2020 to September 30, 2021, by mode.

FTA seeks to collect this information as a periodic request for information under OMB control number 2132-0558. Equipment subject to Federal Railroad Administration safety oversight is excluded from this reporting requirement.

Recommended Action

FTA advises the SSOA to direct each RTA in its jurisdiction to conduct a wheel gauge inspection of its rail transit fleet in revenue service, which may include inspections conducted on or after October 1, 2021. Within 60 days of November 1, 2021, the SSOA should submit to FTA, for the rail transit fleet in revenue service at each RTA in its jurisdiction:

• The time frame during which these inspections were conducted (starting no earlier than October 1, 2021);

• The total number of revenue service vehicles inspected; and

• The total number of revenue service vehicles that failed wheel gauge tolerance levels based on the RTA's internal and approved procedures, by mode.

Equipment subject to Federal Railroad Administration safety oversight is excluded from this inspection advisory.

Nuria I. Fernandez,
Administrator.

[FR Doc. 2021-23721 Filed 10-29-21; 8:45 am]

BILLING CODE 4910-57-P